DEPARTMENT OF THE INTERIOR

Bureau of Land Management

[NV-060-5870-EU; N-82413; 8-08807; TAS: 14X5260]

Notice of Realty Action: Segregation for a Direct Sale of Public Land in Lander County, Nevada

AGENCY: Bureau of Land Management, Interior.

ACTION: Notice of Realty Action.

SUMMARY: A parcel of public land of approximately 2.65 acres in Lander County, Nevada is being proposed for sale under the provisions of section 203 of the Federal Land Policy Management Act of 1976 (FLPMA) (43 U.S.C. 1713), at no less than the appraised fair market value to resolve unauthorized use of the public lands.

DATES: Interested parties may submit written comments to the Bureau of Land Management (BLM) regarding the proposed sale of the lands until February 11, 2008.

ADDRESSES: Mail written comments to the BLM Field Manager, Battle Mountain Field Office, 50 Bastian Road, Battle Mountain, NV 89820.

FOR FURTHER INFORMATION CONTACT: Chuck Lane, (775) 635-4168.

SUPPLEMENTARY INFORMATION: The following-described public land in Lander County, Nevada, is being proposed for sale under the authority of section 203 of the FLPMA: Mount Diablo Meridian, Nevada.

T. 19 N., R. 44 E.,

Sec. 19, lots 28 and 29.

The area described contains 2.65 acres, more or less.

The 1986 BLM Shoshone-Eureka Resource Management Plan identifies this parcel of public land as suitable for disposal. The sale will be subject to the provisions of FLPMA and applicable regulations and will contain the reservation to the United States of a right-of-way thereon for ditches or canals constructed by the authority of the United States, Act of August 30, 1890 (43 U.S.C. 945). Conveyance of the identified public land will be subject to valid existing rights and encumbrances of record, including but not limited to, rights-of-way for roads and public utilities. Conveyance of any mineral interests pursuant to section 209 of the Act of October 21, 1976 (43 U.S.C. 1719) will be analyzed during processing of the proposed sale.

On December 27, 2008, the above described land will be segregated from appropriation under the public land laws, including the mining and mineral laws, except the sale provisions of the FLPMA. Upon publication of this Notice of Realty Action and until completion of the sale, the BLM is no longer accepting land use applications affecting the identified public land, except applications for the amendment of previously filed right-of-way applications or existing authorizations to increase the term of the grants in accordance with 43 CFR 2807.15 and 2886.15. The segregative effect will terminate upon issuance of a patent, publication in the Federal Register of a termination of the segregation, or December 27, 2009, unless extended by the BLM Nevada State Director in accordance with 43 CFR 2711.1-2(d) prior to the termination date.

For a period until February 11, 2008, interested parties and the general public may submit in writing any comments concerning the land being considered for sale, including notification of any encumbrances or other claims relating to the identified land to the BLM Field Manager at the above address. In order to ensure consideration in the environmental analysis of the proposed sale, comments must be in writing and postmarked or delivered within 45 days of the initial date of publication of this Notice of Realty Action. Only written comments submitted by postal service or overnight mail to the BLM Field Manager will be considered properly filed. Facsimiles, telephone calls, and electronic mails are unacceptable means of notification. Before including your address, phone number, e-mail address, or other personal identifying information in your comment, you should be aware that your entire comment—including your personal identifying information—may be made publicly available at any time. While you can ask us in your comment to withhold your personal identifying information from public review, we cannot guarantee that we will be able to do so. If you wish to have your name or address withheld from public disclosure under the Freedom of Information Act, you must state this prominently at the beginning of your comments. Any determination by the BLM to release or withhold the names and/or addresses of those who comment will be made on a case-by-case basis. Such requests will be honored to the extent allowed by law. The BLM will make available for public review, in their entirety, all comments submitted by businesses or organizations, including comments by individuals in their capacity as an official or representative of a business or organization.

Any adverse comments will be reviewed by the BLM Nevada State Director who may sustain, vacate, or modify this realty action. In the absence of any adverse comments, this realty action will become the final determination of the Department of the Interior.

Authority: 43 CFR 2711.1-2.

Dated: December, 18, 2007.
Gerald Smith,
Acting Battle Mountain Field Office Manager.

[FR Doc. 07-6196 Filed 12-26-07; 8:45 am]

BILLING CODE 4310-HC-M